DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Tuesday, April 17, 2007 starting at 11 a.m. Eastern Daylight Time. Arrange for oral presentations by April 9, 2007.

ADDRESSES: Federal Aviation Administration, 800 Independence Ave, SW., Room 810 Washington, DC 20591.

FOR FURTHER INFORMATION CONTACT: Nicanor Davidson, Office of Rulemaking, ARM-207, FAA, 800 Independence Avenue, SW., Washington, DC 20591, Telephone (202) 267-5174, FAX (202) 267-5075, or e-mail at nicanor.davidson@faa.gov.

SUPPLEMENTARY INFORMATION: Pursuant to Section 10(a)(2) of the Federal Advisory Committee Act (Pub. L. 92-463; 5 U.S.C. app. III), notice is given of an ARAC meeting to be held via teleconference on April 17, 2007. The meeting is being held to vote on the Task 3 report from the Airworthiness Assurance Working Group (AAWG). This ad hoc meeting is necessary because this action from the AAWG is a critical part of FAA's effort to develop new guidance to support the Aging Airplane Safety Final Rule (AASFR).

The agenda for the meeting is as follows:

• Opening Remarks

• AAWG Report and Vote

Attendance is open to the public, but will be limited to the availability of phone lines. Please confirm your attendance with the person listed in the FOR FURTHER INFORMATION CONTACT section no later than April 9, 2007. Please provide the following information: Full legal name, country of citizenship, and name of your industry association, or applicable affiliation. If you are attending as a public citizen, please indicate so.

For persons participating, the call-in number is (202) 366-3920; the Passcode is “8489.” To insure that sufficient telephone lines are available, please notify the person listed in the FOR FURTHER INFORMATION CONTACT section of your intent to participate by April 9, 2007. Anyone calling from outside the Washington, DC metropolitan area will be responsible for paying long-distance charges.

The public must make arrangements by April 9, 2007, to present oral statements at the meeting. Written statements may be presented to the ARAC at any time by providing 25 copies to the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC on March 28, 2007.
Pamela Hamilton-Powell,
Director, Office of Rulemaking.

[FR Doc. E7-6058 Filed 3-30-07; 8:45 am]

BILLING CODE 4910-13-P